DEPARTMENT OF COMMERCE

National Oceanic and Atmospheric Administration

50 CFR Part 648

[Docket No. 111220786-1781-01]

RIN 0648-XD012

Fisheries of the Northeastern United States; Summer Flounder Fishery; Commercial Quota Available for the State of New Jersey

AGENCY: National Marine Fisheries Service (NMFS), National Oceanic and Atmospheric Administration (NOAA), Commerce.

ACTION: Temporary rule.

SUMMARY: NMFS announces that the 2013 summer flounder commercial fishery in the State of New Jersey will be reopened to provide the opportunity for the fishery to fully harvest the available quota. Vessels issued a commercial Federal fisheries permit for the summer flounder fishery may land summer flounder in New Jersey until the quota is fully harvested. Regulations governing the summer flounder fishery require publication of this notification to advise New Jersey that quota remains available, and the summer flounder fishery is open to vessel permit holders for landing summer flounder in New Jersey, and to inform dealer permit holders in New Jersey that they may purchase summer flounder.

DATES: Effective December 6, 2013, through December 31, 2013.

FOR FURTHER INFORMATION CONTACT: Carly Bari, (978) 281-9224, or Carly.Bari@noaa.gov.

SUPPLEMENTARY INFORMATION: Regulations governing the summer flounder fishery are found at 50 CFR part 648. The regulations require annual specification of a commercial quota that is apportioned on a percentage basis among the coastal states from North Carolina through Maine. The process to set the annual commercial quota and the percent allocated to each state is described in § 648.102.

The initial total commercial quota for summer flounder for the 2013 fishing year is 11,793,596 lb (5,349,575 kg) (77 FR 76942, December 31, 2012). The percent allocated to vessels landing summer flounder in New Jersey is 16.72499 percent, resulting in a commercial quota of 1,972,478 lb (894,716 kg). The 2013 allocation was adjusted to 1,972,066 lb (894,514 kg) after deduction of research set-aside, adjustment for 2012 quota overages, and adjustments for quota transfers between states. On November 27, 2013, NMFS closed the 2013 commercial summer flounder fishery in New Jersey prematurely, quota remains available for harvest.

The Administrator, Northeast Region, NMFS (Regional Administrator), monitors the state commercial landings and has determined that, due to an error, there is still commercial summer flounder quota available for harvest in New Jersey. NMFS is required to publish notification in the Federal Register advising and notifying commercial vessels and dealer permit holders that, effective upon a specific date, there is commercial quota available for landing summer flounder in that state.

Therefore, effective December 6, 2013, vessels holding summer flounder commercial Federal fisheries permits can land summer flounder in New Jersey until the commercial state quota is fully harvested. Effective December 6, 2013, federally permitted dealers can also purchase summer flounder from federally permitted vessels that land in New Jersey until the commercial state quota is fully harvested.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action reopens the summer flounder fishery for New Jersey until the state commercial summer flounder quota is fully harvested, under current regulations. If implementation of this reopening was delayed to solicit prior public comment, the quota for this fishing year would not be fully harvested, thereby undermining the conservation objectives of the Summer Flounder Fishery Management Plan. The AA further finds, pursuant to 5 U.S.C. 553(d)(3), good cause to waive the 30-day delayed effectiveness period for the reason stated above.

Authority: 16 U.S.C. 1801 et seq.

Dated: December 6, 2013.
Sean F. Corson,
Acting Deputy Director, Office of Sustainable Fisheries, National Marine Fisheries Service.

[FR Doc. 2013-29525 Filed 12-6-13; 4:15 pm]

BILLING CODE 3510-22-P